DEPARTMENT OF ENERGY

Federal Energy Regulatory Commission

[Project No. 13080-003-CT]

Putnam Green Power, LLC; Notice of Availability of Environmental Assessment

In accordance with the National Environmental Policy Act of 1969 and the Federal Energy Regulatory Commission's regulations, 18 CFR Part 380 (Order No. 486, 52 FR 47879), the Office of Energy Projects has reviewed the application for exemption from licensing for the Cargill Falls Hydroelectric Project, to be located on the Quinebaug River, in the Town of Putnam in Windham County, Connecticut, and has prepared an Environmental Assessment (EA). In the EA, Commission staff analyzes the potential environmental effects of the project and conclude that issuing an exemption for the project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

For further information, contact Jeff Browning at (202) 502-8677.

Dated: March 19, 2012.
Kimberly D. Bose,
Secretary.

[FR Doc. 2012-7155 Filed 3-23-12; 8:45 am]

BILLING CODE 6717-01-P